COMMISSION ON CIVIL RIGHTS

Sunshine Act Meeting

AGENCY: U.S. Commission on the Social Status of Black Men and Boys (CSSBMB), U.S. Commission on Civil Rights (USCCR).

ACTION: Notice of CSSBMB public business meeting.

DATES: Monday, September 16 2:00 p.m.-3:30 p.m. EDT.

ADDRESSES: Meeting to take place virtually and is open to the public via livestream on USCCR's official YouTube channel.

FOR FURTHER INFORMATION CONTACT: Diamond Newman, 202-339-2371, dnewman@usccr.gov.

SUPPLEMENTARY INFORMATION: In accordance with Public Law 116-156, 1134 Stat. 700 (2020), the U.S. Commission on the Social Status of Black Men and Boys (CSSBMB) will hold its fourth quarter business meeting exploring CSSBMB business items. This business meeting is open to the public via livestream on the U.S. Commission on Civil Rights' (USCCR) official YouTube channel. (Streaming information subject to change.) Public participation is available for the event with view access, along with an audio option for listening. Computer assisted real-time transcription (CART) will be provided. The web link to access CART (in English) on September 16 is https://upload.youtube.com/closedcaption?cid=faem-bz2w-gq0r-btyz-64jw. Please note that CART is text-only translation that occurs in real time during the meeting and is not an exact transcript.

* Date and meeting details are subject to change. For more information on the CSSBMB or the upcoming public briefing, please visit CSSBMB.gov and CSSBMB's Instagram, Facebook, and X.

* Briefing Agenda

Theme: “Elevate to Educate: Empowering Black Male Education for a Brighter Future”

1. Welcome and Opening Remarks

—Call to Order

—Invocation

—Acknowledgment of Attendees

2. Adoption of the Agenda

—Review and Approval

3. Theme Highlight: Elevate to Educate

—Keynote Address: “Elevate to Educate: The Power of Black Male Education”

—Discussion on the Importance of Black Male Education

—Focusing on how education is the cornerstone of empowerment and advancement for Black males.

4. Events Overview: CBC ALC Weekend

—Recap of Key Events

Overview of significant events, panels, and sessions that align with our mission.

—Panel Discussion Recap: “Don't Build a Jail for Me: Prevention, Not Detention and Policing in the Black Community”

—A summary of insights, strategies, and outcomes from the panel discussion focused on disrupting the school-to-prison pipeline.

5. Directors Report

—Current Status and Achievements

Review of initiatives and progress made in the last quarter.

—Challenges and Opportunities

Discussion of ongoing challenges and potential opportunities for growth.

6. Vision for 2025: Elevate to Educate

—Strategic Plan Presentation: “Disrupting the School-to-Prison Pipeline”

Unveiling our comprehensive plan to focus on education as the primary tool to disrupt the school-to-prison pipeline in 2025.

—Future Initiatives

Introduction of upcoming programs and collaborations aimed at enhancing educational opportunities for Black males.

7. Acknowledgments of Contributors and Partners

—Special Recognition

Highlighting key individuals and organizations that have made a significant impact.

8. Open Floor

—Commissioner Comments and Questions

Open discussion for Commissioners to share thoughts, feedback, and suggestions.

9. Closing Remarks

—Summary and Next Steps

—Adjournment

Dated: September 11, 2024
Zakee Martin,
CSSBMB Deputy Director, Office of the Staff Director, USCCR.

[FR Doc. 2024-20977 Filed 9-11-24; 4:15 pm]

BILLING CODE 6335-01-P